DEPARTMENT OF DEFENSE

Office of the Secretary

[Docket ID: DOD-2011-OS-0098]

Privacy Act of 1974; Notice of a Computer Matching Program

AGENCY: Defense Manpower Data Center, Department of Defense (DoD).

ACTION: Notice of a computer matching program.

SUMMARY: Subsection (e)(12) of the Privacy Act of 1974, as amended, (5 U.S.C. 552a) requires agencies to publish advance notice of any proposed or revised computer matching program by the matching agency for public comment; however, this notification will be completed by DoD, the matching agency. The DoD, as the matching agency under the Privacy Act is hereby giving notice to the record subjects of a computer matching program between the Social Security Administration (SSA) and DoD Defense Manpower Data Center (DMDC) that their records are being matched by computer. The purpose of this agreement is to verify applicants for, and recipients of Supplement Security Income (SSI) payments and Special Veterans Benefits (SVB) with respect of determination of eligibility and calculating payment amounts.

DATES: This proposed action will become effective October 14, 2011 and matching may commence unless changes to the matching program are required due to public comments or by Congressional or by Office of Management and Budget objections. Any public comment must be received before the effective date.

ADDRESSES: You may submit comments, identified by docket number and/Regulatory Information Number (RIN) and title, by any of the following methods:

• Federal Rulemaking Portal: http://www.regulations.gov. Follow the instructions for submitting comments.

• Mail: Federal Docket Management System Office, 4800 Mark Center Drive, Suite 02G09, Alexandria, VA 22350-3100.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Any interested party may submit written comments to Mr. Samuel P. Jenkins, Director, Defense Privacy and Civil Liberties Office, 1901 South Bell Street, Suite 920, Arlington, VA 22202-4512, or by telephone at (703) 607-2943.

SUPPLEMENTARY INFORMATION: Pursuant to subsection (o) of the Privacy Act of 1974, as amended, (5 U.S.C. 552a), the DoD DMDC and SSA have concluded an agreement to conduct a computer matching program between the agencies. The purpose of this agreement is to verify eligibility of individual's of Supplemental Security Income (SSI) payments and the entitlement of individuals to Special Veterans Benefits (SVB).

The parties to this agreement have determined that a computer matching program is the most efficient, expeditious, and effective means of obtaining the information needed by the SSA under the Social Security Act to verify the eligibility/entitlement of and to verify payment/benefit amounts for certain SSI and SVB recipients/beneficiaries. Conducting such a manual match would impose a considerable administrative burden, constitute a greater intrusion of the individual's privacy and would result in additional delay in the eventual SSI payment and SVB benefit recovery of unauthorized or erroneous payment, and not all individuals would be identified. A copy of the computer matching agreement between SSA and DMDC is available upon request to the public. Requests should be submitted to the address caption above or interested parties may comment on this notice by either tele-faxing to (410) 966-0869 or writing to the Executive Director, Office of Privacy and Disclosure, Office of the General Counsel, 617 Altmeyer Building, 6401 Security Boulevard, Baltimore, MD 21235-6401. All comments received will be available for public inspection at this address.

Set forth below is the notice of the establishment of a computer matching program required by paragraph 6.c. of the Office of Management and Budget Guidelines on computer matching published in the Federal Register at 54 FR 25818 on June 19, 1989.

The matching agreement, as required by 5 U.S.C. 552a(r) of the Privacy Act, and an advance copy of this notice was submitted on September 9, 2011, to the House Committee on Government Reform, the Senate Committee on Governmental Affairs, and the Administrator of the Office of Information and Regulatory Affairs, Office of Management and Budget pursuant to paragraph 4d of Appendix I to OMB Circular No. A-130, “Federal Agency Responsibilities for Maintaining Records about Individuals,” February 8, 1996 (February 20, 1996, 61 FR 6427).

Dated: September 9, 2011.
Aaron Siegel,
Alternate OSD Federal Register Liaison Officer, Department of Defense.

Computer Matching Program Between the Social Security Administration and the Department of Defense for Verification of Social Security Supplemental Security Income Payments and Special Veterans Benefits

A. Participating Agencies: Participants in this computer matching program are the Social Security Administration (SSA) and the Defense Manpower Data Center (DMDC) of the Department of Defense (DoD). The SSA is the source agency, i.e., the activity disclosing the records for the purpose of the match. The DMDC is the specific recipient activity or matching agency, i.e., the agency that actually performs the computer matching.

B. Purpose of the Match: The Social Security Act requires SSA to verify, with independent or collateral sources, information provided to SSA by recipients of SSI payments and beneficiaries of SVB benefits. The SSI and SVB recipient/beneficiaries provides information about eligibility/entitlement factors and other relevant information. SSA obtains additional information as necessary before making any determinations of eligibility/payment or entitlement/benefit amounts or adjustments thereto. With respect to military retirement payments to SSI recipients and SVB beneficiaries who are retired members of the Uniformed Services or their survivors, SSA proposes to accomplish this task by computer matching with the DOD.

C. Authority for Conducting the Match: This CMA is executed to comply with the Privacy Act of 1974 (section 552a of title 5 United States Code (U.S.C.), as amended, (as amended by Public Law (Pub. L.) 100-503, the Computer Matching and Privacy Protection Circular A-130, titled “Management of Federal Information Resources” at 61 Federal Register (FR) 6435, February 20, 1996 and OMB guidelines pertaining to computer matching at 54 FR 25818, June 1989. The legal authority for this exchange is sections 806(b) and 1631(e)(1)(B)(f) of the Act (42 U.S.C. 1006(b) and 1383(e)(1)(B)(f)). SSA's legal authority to disclose data to DoD/Defense Manpower Data Center (DMDC) is section 1106(a) of the Act (42 U.S.C. 1306(a)) and the Privacy Act (5 U.S.C. 552a(b)(3)).

D. Records To Be Matched: The systems of records maintained by the respective agencies under the Privacy Act of 1974, as amended, 5 U.S.C. 552a, from which records will be disclosed for the purpose of this computer match are as follows:

SSA will use records from a system of records identified as 60-0103, entitled “Supplemental Security Income Record and Special Veterans Benefits, SSA/ODSSIS,” last published in the Federal Register at 71 FR 1830, January 11, 2006. Disclosure of data will be pursuant to Routine Use (RU) number 3 and 19.

DoD will use the system of records identified as DMDC 01, entitled, “Defense Manpower Data Center Data Base”, published 74 FR 39666 (August 17, 2009). Disclosure of DMDC data will be pursuant to Routine Use Number 5b.

E. Description of Computer Matching Program: SSA, as the source agency, will provide DMDC with an electronic file which contains the data elements. Upon receipt of the electronic file, DMDC, as the recipient agency, will perform a computer match using all nine digits of the SSN of the SSI/SVB file against a DMDC database which contains the data elements. The DMDC database consists of extracts of personnel and pay records of retired members of the uniformed services or their survivors. The “hits” or matches will be furnished to SSA. SSA is responsible for verifying and determining that the data on the DMDC electronic reply file are consistent with the SSA source file and resolving any discrepancies or inconsistencies on an individual basis. SSA will also be responsible for making final determinations as to eligibility for/entitlement to, or amount of payments/benefits, their continuation or needed adjustments, or any recovery of overpayments as a result of the match.

1. The electronic file provided by SSA will contain approximately 9.5 million records extracted from the SSR/SVB.

2. The electronic DMDC database contains records on approximately 2.4 million retired uniformed service members or their survivors.

F. Inclusive Dates of the Matching Program: This computer matching program is subject to public comment and review by Congress and the Office of Management and Budget. If the mandatory 30 day period for comment has expired and no comments are received and if no objections are raised by either Congress or the Office of Management and Budget within 40 days of being notified of the proposed match, the computer matching program becomes effective and the respective agencies may begin the exchange at a mutually agreeable time and thereafter on a quarterly basis. By agreement between SSA and DMDC, the matching program will be in effect for 18 months with an option to renew for 12 additional months unless one of the parties to the agreement advises the other by written request to terminate or modify the agreement.

G. Address for Receipt of Public Comments or Inquiries: Director, Defense Privacy Office, 1901 South Bell Street, Suite 920, Arlington, VA 22202-4512. Telephone (703) 607-2943.

[FR Doc. 2011-23509 Filed 9-13-11; 8:45 am]

BILLING CODE 5001-06-P